DEPARTMENT OF STATE

[Delegation of Authority 118-2]

Delegation by the Secretary of State to the Under Secretary of State for Political Affairs and the Under Secretary of State for Economic, Business and Agricultural Affairs of Authorities Regarding Border Facilities and Crossings

Pursuant to the authority vested in me as Secretary of State, including by section 1 of the State Department Basic Authorities Act, as amended (22 U.S.C. 2651a), I hereby delegate to the Under Secretary of State for Political Affairs and the Under Secretary of State for Economic, Business and Agricultural Affairs the authorities and functions conferred on the Secretary of State by:

Executive Order 13337 of April 30, 2004, entitled “Issuance of Permits with respect to certain energy-related facilities and land transportation crossings on the International Boundaries of the United States”;

Executive Order 11423 of August 16, 1963, entitled “Providing for the Performance of Certain Functions heretofore Performed by the President With Respect to Certain Facilities Constructed and Maintained on the Borders of the United States”; and

The International Bridge Act of 1972 (P.L. 92-434: 86 Stat. 731).

This delegation of authority supersedes Delegation of Authority 118-1 of February 5, 1969; Provided, That all determinations, authorizations, regulations, rulings, certificates, orders, directives, contracts, agreements, and other actions made, issued or entered into with respect to any of the functions affected by this delegation of authority and not revoked, superseded, or otherwise made inapplicable before the effective date of this delegation of authority shall continue in full force and effect until amended, modified or terminated by appropriate authority.

Notwithstanding this delegation of authority, the Secretary of State or the Deputy Secretary of State may exercise any authority or function delegated hereby.

This delegation of authority shall be published in the Federal Register.

Condoleezza Rice,
Secretary of State, Department of State.

[FR Doc. E6-2351 Filed 2-16-06; 8:45 am]

BILLING CODE 4710-07-P